DEPARTMENT OF THE TREASURY

Community Development Financial Institutions Fund

Notice of Funds Availability (“NOFA”) Inviting Applications for the FY 2003 Funding Round of the Financial Assistance Component of the Community Development Financial Institutions (“CDFI”) Program: Change of Application Deadlines; Policy Revision

AGENCY: Community Development Financial Institutions Fund, Department of the Treasury.

ACTION: Notice of change of application deadlines; policy revision.

Change of Application Deadlines: On February 4, 2003, the Community Development Financial Institutions Fund (the “Fund”) announced in a NOFA for the Financial Assistance Component of the CDFI Program (68 FR 5738) that the deadline for applications for assistance through the Financial Assistance Component was March 10, 2003. On February 7, 2003, the Fund announced (68 FR 6540) that it was extending the deadline for applications for assistance through the Financial Assistance Component to March 17, 2003.

This notice is to announce that, due to unforeseen complications with the development of the application and related documents, the Fund again is extending the deadline for the submission of electronic and paper applications for the FY 2003 funding round of the Financial Assistance Component, to 5 p.m. ET on April 14, 2003. Please also note that for electronic applications timely submitted, applicants must submit original signature pages not later than 5 p.m. ET on April 16, 2003, in accordance with the instructions in the electronic application.

In addition, the Fund is extending the deadline for submission of requests for paper applications to 5 p.m. ET on March 21, 2003. The Fund will provide program and technical support related to the Financial Assistance Component application between the hours of 9 a.m. and 5 p.m. ET through April 11, 2003. The Fund will not respond to telephone calls or e-mails concerning the application that are received after 5 p.m. ET on April 11, 2003, until after the Financial Assistance Component application deadline on April 14, 2003.

Further, the Fund has extended certain other deadlines, as follows. An application for a FY 2003 Financial Assistance Component award will not be considered unless: (a) The applicant is already certified as a CDFI with a certification expiration date after June 30, 2003; or (b) the Fund receives from an applicant a complete CDFI certification application no later than March 7, 2003, evidencing that the applicant can be certified as a CDFI. With respect to any CDFI that is currently certified by the Fund and whose certification expiration date is on or before June 30, 2003, the Fund must receive an application for re-certification no later than March 7, 2003, evidencing that the applicant can be re-certified as a CDFI.

Policy Revision

The Fund has determined that it is appropriate to revise the definition of Category I applicants, set forth in the February 4, 2003 NOFA for the Financial Assistance Component, as follows: Category I includes CDFIs that have capitalization needs up to and including $1,000,000 and total assets as of December 31, 2002 that range up to $500 million (for insured depository institutions and depository institution holding companies), up to $25 million (for insured credit unions), or up to $25 million for other CDFIs. This policy revisions comports with the definition of eligible CDFI Partner found in the NOFA for the FY 2003 funding round of the Bank Enterprise Award (BEA) Program (68 FR 5727).

All other information and requirements set forth in the February 4, 2003 NOFA for the Financial Assistance Component shall remain effective, as published.

FOR FURTHER INFORMATION CONTACT: If you have any questions about the programmatic requirements for this program, contact the Fund's Program Operations Manager. If you have questions regarding administrative requirements, contact the Fund's Awards Manager. The Program Operations Manager and the Awards Manager may be reached by e-mail at cdfihelp@cdfi.treas.gov, by telephone at (202) 622-6355, by facsimile at (202) 622-7754, or by mail at CDFI Fund, 601 13th Street, NW., Suite 200 South, Washington, DC 20005. Technical support related to the electronic application can be obtained by calling (202) 622-2455 and selecting option 1, then option 2, and then option 9, or by e-mail at ithelpdesk@cdfi.treas.gov. These are not toll free numbers.

Authority: 12 U.S.C. 4703, 4703 note, 4704, 4706, 4707, 4717; 12 CFR part 1805.

Dated: February 12, 2003.
Tony T. Brown,
Director, Community Development Financial Institutions Fund.

[FR Doc. 03-3940 Filed 2-14-03; 8:45 am]

BILLING CODE 4810-70-P